DEPARTMENT OF TRANSPORTATION

Surface Transportation Board

[STB Finance Docket No. 33929]

State of New Hampshire Department of Transportation—Acquisition Exemption—Line of Boston and Maine Corporation

The State of New Hampshire Department of Transportation (NHDOT), a noncarrier, has filed a notice of exemption under 49 CFR 1150.31 to acquire approximately 2.8 miles ± of rail line from Boston and Maine Corporation (B&M) from milepost 140.00 to milepost 142.78 in West Lebanon, NH. NHDOT certifies that its projected revenues as a result of this transaction will not result in the creation of a Class II or Class I rail carrier.

This transaction is related to a simultaneously filed notice of exemption in STB Finance Docket No. 33930, Claremont Concord Railroad Corporation—Operation Exemption—Line of the State of New Hampshire Department of Transportation, wherein Claremont Concord Railroad Corporation seeks to operate the track being acquired by NHDOT.

The transaction is expected to be consummated on or shortly after October 6, 2000.¹

¹ NHDOT reported that it intended to consummate the transaction on or shortly after September 25, 2000. The earliest the transaction can be consummated is October 6, 2000, the effective of the exemption (7 days after the exemption was filed). NHDOT's representative has been notified and has confirmed that consummation would not take place before October 6, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33929, must be filed with the Surface Transportation Board, Office of the Secretary, Case Control Unit, 1925 K Street, NW., Washington, DC 20423-0001. In addition, a copy of each pleading must be served on James E. Howard, One Thompson Square, Suite 201, Charlestown, MA 02129.

Board decisions and notices are available on our website at “WWW.STB.DOT.GOV.”

Decided: October 5, 2000.
By the Board, David M. Konschnik, Director, Office of Proceedings.
Vernon A. Williams,
Secretary.

[FR Doc. 00-26199 Filed 10-11-00; 8:45 am]

BILLING CODE 4915-00-P